DEPARTMENT OF THE TREASURY

Internal Revenue Service

26 CFR Part 1

[REG-139059-02]

RIN 1545-BB86

Expenses for Household and Dependent Care Services Necessary for Gainful Employment; Correction

AGENCY: Internal Revenue Service (IRS), Treasury.

ACTION: Correction to notice of proposed rulemaking.

SUMMARY: This document contains a correction to notice of proposed rulemaking that was published in the Federal Register on Wednesday, May 24, 2006 (71 FR 29847) regarding the credit for expenses for household and dependent care services necessary for gainful employment.

FOR FURTHER INFORMATION CONTACT: Sara Shepherd, (202) 622-4960 (not a toll-free call).

SUPPLEMENTARY INFORMATION:

Background

The notice of proposed rulemaking (REG-139059-02) that is the subject of this correction is under section 21 of the Internal Revenue Code.

Need for Correction

As published, the notice of proposed rulemaking (REG-139059-02) contains an error that may prove to be misleading and is in need of correction.

List of Subjects in 26 CFR Part 1

Income taxes, Reporting and recordkeeping requirements.

Correction of Publication

Accordingly, the notice of proposed rulemaking (REG-139059-02), that was the subject of FR Doc. E6-7390, is corrected as follows:

PART 1—INCOME TAXES

Paragraph 1. The authority citation for part 1 continues to read in part as follows:

Authority: 26 U.S.C. 7805 * * *

§ 1.21-1 [Corrected]

Par. 2. On page 29851, column 1, § 1.21-1 is amended by revising paragraph (b)(5)(ii) to read as follows:

§ 1.21-1 Expenses for household and dependent care services necessary for gainful employment.

* * * * *

(b) * * *

(5) * * *

(ii) Custodial parent allowed the credit. A child to whom this paragraph (b)(5) applies is the qualifying individual of only one parent in any taxable year and is the qualifying child of the custodial parent even if the noncustodial parent may claim the dependency exemption for that child for that taxable year. See section 152(e). The custodial parent is the parent with whom a child shared the same principal place of abode the greater portion of the calendar year. See section 152(e)(4)(A).

* * * * *

Guy R. Traynor,
Branch Chief, Publications and Regulations Branch, Legal Processing Division, Associate Chief Counsel (Procedure and Administration).

[FR Doc. E6-10132 Filed 7-5-06; 8:45 am]

BILLING CODE 4830-01-P